ENVIRONMENTAL PROTECTION AGENCY

40 CFR Part 300

[FRL-7646-9]

National Priorities List for Uncontrolled Hazardous Waste Sites, Proposed Rule No. 40; Correction

AGENCY: Environmental Protection Agency.

ACTION: Proposed rule; correction.

SUMMARY: The Environmental Protection Agency (“EPA” or “the Agency”) published a proposed rule in the Federal Register of March 8, 2004 (69 FR 10646), proposing 11 sites to the National Priorities List (NPL). This document corrects the name of one of the sites.

FOR FURTHER INFORMATION CONTACT: Yolanda Singer, phone (703) 603-8835, State, Tribal and Site Identification Branch, Assessment and Remediation Division, Office of Superfund Remediation and Technology Innovation (Mail Code 5204G); U.S. Environmental Protection Agency; 1200 Pennsylvania Avenue NW., Washington, DC 20460.

Correction

In the Federal Register of March 8, 2004, on page 10652, in Table 1, under the site name column, “Devil's Swamp—Ewell Property” is corrected to read “Devil's Swamp Lake.”

Dated: April 7, 2004.
Marianne Lamont Horinko,
Assistant Administrator, Office of Solid Waste and Emergency Response.

[FR Doc. 04-8315 Filed 4-12-04; 8:45 am]

BILLING CODE 6560-50-M